DEPARTMENT OF THE INTERIOR

National Park Service

[NPS-WASO-NRNHL-23144; PPWOCRADI0, PCU00RP14.R50000]

National Register of Historic Places; Notification of Pending Nominations

AGENCY: National Park Service, Interior.

ACTION: Notice.

SUMMARY: The National Park Service is soliciting comments on the significance of two properties Determined Eligible on March 13, 2017, for listing in the National Register of Historic Places.

DATES: Comments should be submitted by May 1, 2017.

ADDRESSES: Comments may be sent via U.S. Postal Service and by all other carriers to the National Register of Historic Places, National Park Service, 1849 C St. NW., MS 7228, Washington, DC 20240; or by email: Edson_Beall@nps.gov.

SUPPLEMENTARY INFORMATION: The properties listed in this notice are being considered for listing in the National Register of Historic Places. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

HAWAII

Honolulu County,

Little Makalapa Naval Housing Historic District, Palmyra St. & Tarawa Dr., Honolulu, 100000731

Makalapa Naval Housing Historic District, Roughly bounded by HI 1, Kamehameha Hwy., Radford & Makalapa Drs., Honolulu, 100000732

The above districts, listed in the National Register of Historic Places on 3/13/2017, have been removed from the National Register of Historic Places by the Keeper of the National Register in order to correct a prejudicial procedural error that occurred during the listing process, per section 60.15(a)(4) of 36 CFR part 60.

In accordance with the above-referenced Federal regulation, the two districts have been Determined Eligible for listing in the National Register of Historic Places.

A new 15-day public comment period for these two nominations will begin as of the date the Federal Register notice is published, pursuant to section 60.13(a) of 36 CFR part 60.

The Keeper of the National Register will reconsider listing both districts following the end of the 15-day public comment period, as outlined at section 60.9 of 36 CFR part 60.

Authority: 36 CFR part 60.

Dated: March 22, 2017.
Julie H. Ernstein,
Acting Chief, National Register of Historic Places/National Historic Landmarks Program.

[FR Doc. 2017-07527 Filed 4-13-17; 8:45 am]

BILLING CODE 4312-52-P